DEPARTMENT OF EDUCATION

Applications for New Awards; Fund for the Improvement of Postsecondary Education—Historically Black Colleges or Universities (HBCUs), Tribally Controlled Colleges or Universities (TCCUs), and Minority-Serving Institutions (MSIs) Research and Development Infrastructure Grant Program (RDI)

AGENCY: Office of Postsecondary Education, Department of Education.

ACTION: Notice.

SUMMARY: The Department of Education (Department) is issuing a notice inviting applications for new awards for fiscal year (FY) 2023 for the HBCU, TCCU, and MSI RDI grant program, Assistance Listing Number 84.116H. This notice relates to the approved information collection under OMB control number 1894-0006.

DATES:

Applications Available: August 2, 2023.

Deadline for Transmittal of Applications: October 2, 2023.

Deadline for Intergovernmental Review: November 30, 2023.

ADDRESSES: For the addresses for obtaining and submitting an application, please refer to our Common Instructions for Applicants to Department of Education Discretionary Grant Programs, published in the Federal Register on December 7, 2022 (87 FR 75045) and available at www.federalregister.gov/d/2021-27979. Please note that these Common Instructions supersede the version published on December 27, 2021.

FOR FURTHER INFORMATION CONTACT: Jason Cottrell, Ph.D., U.S. Department of Education, 400 Maryland Avenue SW, Room 5C122, Washington, DC 20202-4260. Telephone: (202) 453-7530. Email: Jason.Cottrell@ed.gov.

If you are deaf, hard of hearing, or have a speech disability and wish to access telecommunications relay services, please dial 7-1-1.

SUPPLEMENTARY INFORMATION:

Full Text of Announcement

I. Funding Opportunity Description

Purpose of Program: The RDI grant program is designed to provide four-year HBCUs, TCCUs, and MSIs including Asian American and Native American Pacific Islander Serving Institutions (AANAPISIs), Alaska Native and Native Hawaiian Serving Institutions (ANNH), Hispanic Serving Institutions (HSIs), Native American Serving Non-Tribal Institutions (NASNTIs), and/or Predominantly Black Institutions (PBIs), or consortia led by an eligible institution of higher education (institution), with funds to implement transformational investments in research infrastructure, including research productivity, faculty expertise, graduate programs, physical infrastructure, human capital development, and partnerships leading to increases in external funding.

For HBCUs and MSIs, the RDI grant program will support institutions in increasing their level of research activity in alignment with the Carnegie Classification designations. Grant funds can be utilized by HBCU and MSI institutions with a Doctoral and Professional Universities (D/PU) classification to move toward the Doctoral Universities with High Research Activity (R2) classification, and by Doctoral Universities with High Research Activity (R2) to move toward a classification of Doctoral Universities with Very High Research Activity (R1). For TCCUs, which have their own Carnegie Classification designation and cannot be classified as R1, R2, or D/PU, this program seeks to support an increase in research activities, undergraduate research opportunities, faculty development, research development, and infrastructure, including physical infrastructure and human capital development.

Background: According to the American Council on Education's Carnegie Classification dashboard,¹ of the 146 R1 universities, there are no HBCUs and only 33 MSIs. Of the 133 R2 universities, only 11 are HBCUs and 28 are MSIs. As noted above, TCCUs have their own Carnegie Classification and are not included in the R1 and R2 classifications.

¹ https://carnegieclassifications.acenet.edu/.

The R1 and R2 Carnegie Classifications for Doctoral Universities describe institutions that award at least 20 research/scholarship doctoral degrees or awarded at least 30 professional practice doctorates across at least 2 programs during the Carnegie Classification's update year, and expend at least $5 million in research, with an indexed cutoff between the two categories.² The Doctoral/Professional University classification describe institutions that award at least 20 research/scholarship doctoral degrees during the Carnegie Classification's update year or awarded at least 30 professional practice doctoral degrees in at least 2 programs, and expend less than $5 million in research.

² https://carnegieclassifications.acenet.edu/carnegie-classification/classification-methodology/basic-classification/.

The Nation's HBCUs, TCCUs, and MSIs provide access to an education for many of the Nation's students of color. HSIs represent 17 percent of the Nation's institutions and educate 68 percent of the Nation's Hispanic undergraduate students.³ The most recent research available provides that, in 2012, of the 34 TCCUs, 12 conferred 252 Bachelor's Degrees to American Indian and Alaska Native students, representing 82 percent of those TCCU's Bachelor's Degree recipients.⁴ A report from the United Negro College Fund shows that the Nation's HBCUs enroll 10 percent of all African American students and produce almost 20 percent of all African American graduates.⁵ Because of their central role in educating students of color, it is important for HBCUs, TCCUs, and MSIs to excel in research activity. Teaching and research go hand-in-hand in ensuring student ⁶ and institutional success.⁷ Research activity can impact funding, faculty and student recruitment, student research opportunities, and promote diversity in graduate students and faculty at an institution.

³ https://www.edexcelencia.org/.

⁴ https://cmsi.gse.rutgers.edu/sites/default/files/MSI_TBLCLLGreport_Final.pdf.

⁵ https://uncf.org/the-latest/the-numbers-dont-lie-hbcus-are-changing-the-college-landscape.

⁶ https://nsse.indiana.edu/research/annual-results/2022/story2.html.

⁷ https://www.forbes.com/sites/davidrosowsky/2022/03/02/the-role-of-research-at-universities-why-it-matters/?sh=35c9dce96bd5.

The Nation's HBCUs, TCCUs, and many MSIs often lack the resources to plan, implement, and promote transformational investments in research infrastructure. According to a recent report from the Center for American Progress,⁸ Black researchers and inventors are less likely to receive Federal funds due to the barriers that exist in the research profession. At the institutional level, these barriers are compounded. Per the Congressional Research Service,⁹ HBCUs receive fewer research and development dollars than predominantly white institutions, although seven of the top eight institutions that graduate the highest number of Black undergraduates in science and engineering are HBCUs. According to the National Science Foundation,¹⁰ HBCUs enroll only 9 percent of Black undergraduates in the United States, but they account for a much higher percentage of Black students who graduate with degrees in engineering, mathematics, and biological sciences.

⁸ https://www.americanprogress.org/article/redesigning-federal-funding-research-development/.

⁹ https://www.everycrsreport.com/files/20111110_RL34435_acbcccd5c0d382bec3cd87763ad8061e6945941c.pdf.

¹⁰ https://new.nsf.gov/science-matters/science-behind-hbcu-success.

At TCCUs, the opportunity to integrate culturally relevant research into educational curricula ¹¹ can assist with improving student success.¹² However, efforts to sustain and implement extensive research activities at TCCUs face obstacles. Administrations often have difficulty maintaining research activities due to the young nature of the institutions and their lack of research support offices.¹³ One study found that TCCUs' biggest obstacles in developing research activities are scheduling, infrastructure needs (lack of space, equipment, and literature), partnership problems (lack of Tribal community knowledge), faculty capacity, and mistrust,¹⁴ while recent events like COVID have renewed questions about technology infrastructure and funding constraints (long-term funding),¹⁵ and isolation (remote areas).¹⁶ However, the authors found that the benefits of research activities for faculty and student development—such as conferences, collaborations, and presentations—far outweigh these obstacles.

¹¹ https://repository.upenn.edu/cgi/viewcontent.cgi?article=1386&context=gse_pubs.

¹² Brayboy, B.M.J., Fann, A.J., Castagno, A.E., & Solyom, J.A. (2012). Postsecondary education for American Indian and Alaska Natives: Higher education for nation building and self-determination. ASHE Higher Education Report, 37(5), 1-154. San Francisco: Jossey-Bass.

¹³ https://tribalcollegejournal.org/the-evolution-of-research-at-tribal-colleges-and-universities/.

¹⁴ https://tribalcollegejournal.org/survey-tribal-colleges-reveals-researchs-benefits-obstacles/.

¹⁵ https://www.insidehighered.com/news/2021/03/16/tribal-colleges-report-pandemic-related-challenges-around-mental-health-persistence.

¹⁶ https://repository.upenn.edu/cgi/viewcontent.cgi?article=1386&context=gse_pubs.

This notice includes three absolute priorities to ensure support for each type of institution (HBCUs, TCCUs, and MSIs), consistent with Congress' explanatory statement in Division H of the Consolidated Appropriations Act, 2023 (Pub. L. 117-328) for this program. In general, the Department plans to allocate funding across the absolute priorities under this program proportionally based on the relative share of funding appropriated to each category of eligible institutions in the American Rescue Plan Act (Pub. L. 117-2). However, the ultimate allocation of funding across the absolute priorities will depend, in part, on the quality of applications. In addition, within the MSI absolute priority, there is a competitive preference priority for applicants enrolling high proportions of undergraduate students in need of financial assistance. Specifically, competitive preference priority points will be awarded to institutions where at least half of the enrolled students receive Pell Grants.

Priorities: This notice contains three absolute priorities and one competitive preference priority. Applicants may only apply for one of the three absolute priorities based on the institution's eligibility as described in this notice. We are establishing these priorities for the fiscal year (FY) 2023 grant competition and any subsequent year in which we make awards from the list of unfunded applications from this competition, in accordance with section 437(d)(1) of the General Education Provisions Act (GEPA), 20 U.S.C. 1232(d)(1).

Absolute Priorities: For FY 2023 and any subsequent year in which we make awards from the list of unfunded applications from this competition, these priorities are absolute priorities. Under 34 CFR 75.105(c)(3), we consider only applications that meet one of these priorities and the requirements included in this notice. A lead applicant can only apply under one absolute priority.

These priorities are:

Absolute Priority 1—Funding for Historically Black Colleges and Universities' Research and Development Infrastructure.

Applications will be accepted for this absolute priority from HBCUs, as defined in this notice, that propose to support high-quality implementation of transformative research capacity initiatives and that seek to attain higher research activity status, as measured by the Carnegie Classifications of Institutions of Higher Education, to either move from R2 to R1 status or from D/PU to R2 status. HBCUs that currently have an R1 Carnegie Classification are ineligible to apply as the lead applicant in this competition but are eligible to participate as part of a consortium.

Absolute Priority 2—Funding for Tribally Controlled Colleges and Universities' Research and Development Infrastructure.

Applications will be accepted for this absolute priority from TCCUs, as defined in this notice, that propose to improve their research and development activities, including infrastructure, faculty development, and academic programs.

Absolute Priority 3—Funding for Minority-Serving Institutions' Research and Development Infrastructure.

Applications will be accepted for this absolute priority from MSIs, as defined in this notice, that propose to support high-quality implementation of transformative research capacity initiatives at institutions designated as at least one type of MSI (AANAPISI, ANNH, HSI, NASNTI, and/or PBI) and that seek to attain higher research activity status according to the Carnegie Classifications, to either move from R2 to R1 status or from D/PU to R2 status. Institutions that currently have an R1 Carnegie Classification are ineligible to apply as the lead applicant but are eligible to participate as part of a consortium.

Competitive Preference Priority: Within this absolute priority, we give competitive preference to applications that address the following priority. Under 34 CFR 75.105(c)(2)(i), we award an additional two points to an application that meets this priority.

The priority is:

MSI Pell Grant Percentage (0 or 2 points).

Lead applicants whose Pell Grant recipients account for 50 percent or higher of their undergraduate student enrollment, as measured by the Department using the most recent data available in the Integrated Postsecondary Education Data System (IPEDS), will be awarded 2 additional points.

Use of Funds: For FY 2023 and any subsequent year in which we make awards from the list of unfunded applications from this competition, we are establishing the following allowable uses of funds in accordance with section 437(d)(1) of GEPA. Applicants must propose projects that would do one or more of the activities listed in this notice. Additionally, consistent with the FIPSE program statute in 20 U.S.C. 1138 and the explanatory statement accompanying Division H of the Consolidated Appropriations Act, 2023 (Pub. L. 117-328), the Department uses its authority under section 437(d)(1) of GEPA to authorize the use of grant funds for construction and the acquisition of real property to the extent set forth in the allowable uses below.

(1) Providing for the improvement of infrastructure existing on the date of the grant award, including deferred maintenance, or the establishment of new physical infrastructure, including instructional program spaces, laboratories, or research facilities relating to the fields of science, technology, engineering, the arts, mathematics, health, agriculture, education, medicine, law, and other disciplines.

(2) Hiring and retaining faculty, students, research-related staff, or other personnel, including research personnel skilled in operating, using, or applying technology, equipment, or devices used to conduct or support research.

(3) Supporting research internships and fellowships for students, including undergraduate (Absolute Priority 2 for TCCUs only), graduate, and post-doctoral positions, which may include providing direct student financial assistance to such students.

Note: Per 20 U.S.C. 1138(d)(1), no funds made available under FIPSE can be used to provide direct financial assistance in the form of grants or scholarships to students who do not meet eligibility criteria under Title IV of the HEA.

(4) Creating new, or expanding existing, academic positions, including internships, fellowships, and post-doctoral positions, in fields of research for which research and development infrastructure funds have been awarded under this program.

(5) Creating and supporting inter- and intra-institutional research centers (including formal and informal communities of practice) in fields of research for which research and development infrastructure funds have been awarded under this program, including hiring staff, purchasing supplies and equipment, and funding travel to relevant conferences and seminars to support the work of such centers.

(6) Building new institutional support structures and departments that help faculty learn about, and increase faculty and student access to, Federal research and development grant funds and non-Federal academic research grants.

(7) Building data and collaboration infrastructure so that early findings and research can be securely shared to facilitate peer review and other appropriate collaboration.

(8) Providing programs of study and courses in fields of research for which research and development infrastructure funds have been awarded under this program.

(9) Paying operating and administrative expenses for, and coordinating project partnerships with members of, a consortium as described in this notice on behalf of which the eligible institution has received a grant under this program. A grantee under this competition may not pay for expenses to R1 institutions that are members of the consortia.

(10) Installing or extending the life and usability of basic systems and components of campus facilities related to research, including high-speed broadband internet infrastructure sufficient to support digital and technology-based learning.

(11) Expanding, remodeling, renovating, or altering biomedical and behavioral research facilities existing on the date of the grant award that received support under section 404I of the Public Health Service Act (42 U.S.C. 283k).

(12) Acquiring and installing furniture, fixtures, and instructional research-related equipment and technology for academic instruction in campus facilities in fields of research for which research and development infrastructure funds have been awarded under this program.

(13) Providing increased funding to programs that support research and development at the eligible institution that are funded by National Institutes of Health, including the Path to Excellence and Innovation program with the National Institutes of Health.

(14) Faculty professional development.

(15) Planning purposes, for TCCUs applying under Absolute Priority 2 only.

Definitions: In accordance with section 437(d)(1) of GEPA, we are establishing definitions for “Doctoral/Professional University,” “Minority-Serving Institution,” “four-year institution of higher education,” “Historically Black College or University,” “R1,” “R2,” “Tribally Controlled College or University,” and “underrepresented students.” The definitions of “demonstrates a rationale,” “logic model,” “project component,” and “relevant outcomes” are from 34 CFR 77.1.

Demonstrates a rationale means a key project component included in the project's logic model is informed by research or evaluation findings that suggest the project component is likely to improve relevant outcomes.

Doctoral/Professional University means an institution that awarded at least 20 research/scholarship doctoral degrees during the Carnegie Classification's update year, as well as institutions that awarded fewer than 20 research/scholarship doctoral degrees during that year but that awarded at least 30 professional practice doctoral degrees in at least 2 programs, and that expended less than $5 million in research.¹⁷

¹⁷ https://carnegieclassifications.acenet.edu/carnegie-classification/classification-methodology/basic-classification/.

Four-year institution of higher education means a postsecondary institution that offers programs of at least four years duration or one that offers programs at or above the baccalaureate level. This includes schools that offer postbaccalaureate certificates only or those that offer graduate programs only. It also includes free-standing medical, law, or other first-professional schools.

Historically Black College or University means an institution that meets the eligibility requirements under section 322(2) of the Higher Education Act of 1965, as amended (HEA).

Logic model (also referred to as a theory of action) means a framework that identifies key project components of the proposed project (i.e., the active “ingredients” that are hypothesized to be critical to achieving the relevant outcomes) and describes the theoretical and operational relationships among the key project components and relevant outcomes.

Note: In developing logic models, applicants may want to use resources such as the Regional Educational Laboratory Program's (REL Pacific) Education Logic Model Application, available at https://ies.ed.gov/ncee/rel/regions/pacific/pdf/ELMUserGuideJune2014.pdf. Other sources include: https://ies.ed.gov/ncee/edlabs/regions/pacific/pdf/REL_2014025.pdf, https://ies.ed.gov/ncee/edlabs/regions/pacific/pdf/REL_2014007.pdf, and https://ies.ed.gov/ncee/edlabs/regions/northeast/pdf/REL_2015057.pdf.

Minority-Serving Institution means an institution that is eligible to receive assistance under sections 317 through 320 of part A of title III, or under title V of the HEA.

Note: The list of institutions currently designated as eligible under titles III and V of the HEA is available at www2.ed.gov/about/offices/list/ope/idues/eligibility.html#el-inst.

Project component means an activity, strategy, intervention, process, product, practice, or policy included in a project. Evidence may pertain to an individual project component or to a combination of project components (e.g., training teachers on instructional practices for English learners and follow-on coaching for these teachers).

R1 is based on the Carnegie Classification category of the same name and means an institution that awarded at least 20 research/scholarship doctoral degrees during the Carnegie Classification's update year, as well as institutions that awarded fewer than 20 research/scholarship doctoral degrees but that awarded at least 30 professional practice doctoral degrees in at least 2 programs, and had at least $5 million in total research expenditures as reported through the National Science Foundation Higher Education Research Development Survey (HERD). Additionally, the Carnegie Classifications developed two indices of research activity using (1) the aggregate level of research activity and (2) the per-capita research activity using the expenditure and staffing measures divided by the number of full-time faculty within the assistant, associate, and full professor ranks. These two indices were charted for each institution and assigned to one of two categories based on a common reference point (the minima of each scale). Institutions that are above the minima during the Carnegie Classification's update year are considered R1.

R2 is based on the Carnegie Classification category of the same name and means an institution that awarded at least 20 research/scholarship doctoral degrees during the Carnegie Classification's update year, as well as institutions that awarded fewer than 20 research/scholarship doctoral degrees but that awarded at least 30 professional practice doctoral degrees in at least 2 programs, and had at least $5 million in total research expenditures as reported through the National Science Foundation HERD. Additionally, the Carnegie Classifications developed two indices of research activity using (1) the aggregate level of research activity and (2) the per-capita research activity using the expenditure and staffing measures divided by the number of full-time faculty within the assistant, associate, and full professor ranks. These two indices were charted for each institution and assigned to one of two categories based on a common reference point (the minima of each scale). Institutions that are below the minima during the Carnegie Classification's update year are considered R2.

Relevant outcome means the student outcome(s) or other outcome(s) the key project component is designed to improve, consistent with the specific goals of the program.

Tribally Controlled College or University means an institution that meets the eligibility requirements of Section 316 of the HEA, namely one that qualifies for funding under the Tribally Controlled College or University Assistance Act of 1978 or the Navajo Community College Assistance Act of 1978; or is cited in section 532 of the Equity in Educational Land Grant Status Act of 1994.

Underrepresented students means students enrolled in postsecondary, career, or technical education who are in one or more of the following subgroups:

(i) A student who is living in poverty.

(ii) A student who is American Indian, Alaska Native, Asian American, Black, Hispanic or Latino, Native Hawaiian, and/or Pacific Islander.

Waiver of Proposed Rulemaking: Under the Administrative Procedure Act (5 U.S.C. 553), the Department generally offers interested parties the opportunity to comment on proposed priorities, selection criteria, definitions, and other requirements. Section 437(d)(1) of GEPA, however, allows the Secretary to exempt from rulemaking requirements regulations governing the first grant competition under a new or substantially revised program authority. This is the first grant competition for this program, and therefore qualifies for this exemption. In order to ensure timely grant awards, the Secretary has decided to forgo public comment on the priorities, requirements, and definitions under section 437(d)(1) of GEPA. These priorities, requirements, and definitions will apply to the FY 2023 grant competition and any subsequent year in which we make awards from the list of unfunded applications from this competition.

Program Authority: 20 U.S.C. 1138-1138d; the Explanatory Statement accompanying Division H of the Consolidated Appropriation Act, 2023 (Pub. L. 117-328).

Note: Projects will be awarded and must be operated in a manner consistent with the nondiscrimination requirements contained in Federal civil rights laws.

Applicable Regulations: (a) The Education Department General Administrative Regulations in 34 CFR parts 75, 77, 79, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

II. Award Information

Type of Award: Discretionary grants.

Estimated Available Funds: $49,500,000.

Contingent upon the availability of funds and the quality of applications, we may make additional awards in subsequent years from the list of unfunded applications from this competition.

Estimated Range of Awards: Contingent upon the number and quality of applications received under each absolute priority.

Estimated Average Size of Awards: Contingent upon the number and quality of applications received under each absolute priority.

Maximum Award Amount:

Applicants under Absolute Priority 1 or Absolute Priority 3: $5,000,000 for a 48-month project period.

Applicants under Absolute Priority 2: $2,000,000 for a 48-month project period.

Project Period: Up to 48 months.

III. Eligibility Information

1. Eligible Applicants: Eligible applicants are four-year institutions of higher education (as defined in this notice) that are HBCUs (as defined in this notice), TCCUs (as defined in this notice), and MSIs (as defined in this notice). Eligible applicants may apply individually or as lead applicants of a consortium with other eligible applicants and/or other partners such as an institution of higher education with an R1 Carnegie Classification, community colleges, or non-profit, industry and philanthropic partners. The lead applicant must be an eligible applicant under the absolute priority under which it is applying.

2. a. Cost Sharing or Matching: This program requires cost sharing or matching for all applicants. Grantees will need to provide a 1:1 match, which can include in-kind donations. The goal of the match is to promote sustainability and alignment to the institution's strategic plan. Full or partial waivers may be granted using the criteria below.

The Secretary may waive the matching requirement on a case-by-case basis upon showing any of the following exceptional circumstances, which we establish in accordance with section 437(d)(1) of GEPA:

(i) The difficulty of raising matching funds for a program to serve a high poverty area in the lead applicant's geographic location, defined as a Census tract, a set of contiguous Census tracts, an American Indian Reservation, Oklahoma Tribal Statistical Area (as defined by the U.S. Census Bureau), Alaska Native Village Statistical Area or Alaska Native Regional Corporation Area, Native Hawaiian Homeland Area, or other Tribal land or county that has a poverty rate of at least 25 percent as determined every 5 years using American Community Survey 5-Year data;

(ii) Serving a significant population of low-income students at the lead applicant location, defined as at least 50 percent (or the eligibility threshold for the appropriate institutional sector available at https://www2.ed.gov/about/offices/list/ope/idues/eligibility.html#app) of degree-seeking enrolled students receiving need-based grant aid under Title IV of the HEA;

(iii) Significant economic hardship as demonstrated by low average educational and general expenditures per full-time equivalent undergraduate student at the lead applicant institution, in comparison with the average educational and general expenditures per full-time equivalent undergraduate student of institutions that offer similar instruction; or

(iv) Information that otherwise demonstrates a commitment to the long-term sustainability of the applicant's projects, such as evidence of a consortium relationship with an R1 institution, a State bond, State matching, planning documents such as a campus plan, multi-year faculty hiring plan, support of industry, Federal grants received, or a demonstration of institutional commitment that may include commitment from the institution's board.

Note: Institutions seeking to waive the matching requirement must provide the waiver request information outlined above within their application.

b. Indirect Cost Rate Information: This program limits a grantee's indirect cost reimbursement to 8 percent of a modified total direct cost base. We are establishing this indirect cost limit for the FY 2023 grant competition and any subsequent year in which we make awards from the list of unfunded applications from this competition in accordance with section 437(d)(1) of GEPA. For more information regarding indirect costs, or to obtain a negotiated indirect cost rate, please see www2.ed.gov/about/offices/list/ocfo/intro.html.

c. Administrative Cost Limitation: This program does not include any program-specific limitation on administrative expenses. All administrative expenses must be reasonable and necessary and conform to Cost Principles described in 2 CFR part 200 subpart E of the Uniform Guidance.

3. Subgrantees: A grantee under this competition may not award subgrants to entities to directly carry out project activities described in its application.

4. Build America Buy America Act: This program is subject to the Build America, Buy America Act (Pub. L. 117-58) domestic sourcing requirements. Accordingly, under this program, grantees and contractors may not use their grant funds for infrastructure projects or activities (e.g., construction, remodeling, and broadband infrastructure) unless—

(a) All iron and steel used in the infrastructure project or activity are produced in the United States;

(b) All manufactured products used in the infrastructure project or activity are produced in the United States; and

(c) All construction materials are manufactured in the United States.

Grantees may request waivers to these requirements by submitting a Build America, Buy America Act Waiver Request Form. For more information, including a link to the Waiver Request Form, see the Department's Build America Buy America Waiver website at: https://www2.ed.gov/policy/fund/guid/buy-america/index.html.

IV. Application and Submission Information

1. Application Submission Instructions: Applicants are required to follow the Common Instructions for Applicants to Department of Education Discretionary Grant Programs, published in the Federal Register on December 7, 2022 (87 FR 75045), and available at www.federalregister.gov/d/2022-26554, which contain requirements and information on how to submit an application. Please note that these Common Instructions supersede the version published on December 27, 2021.

2. Submission of Proprietary Information: Given the types of projects that may be proposed in applications for the RDI grant program, your application may include business information that you consider proprietary. In 34 CFR 5.11 we define “business information” and describe the process we use in determining whether any of that information is proprietary and, thus, protected from disclosure under Exemption 4 of the Freedom of Information Act (5 U.S.C. 552, as amended).

Because we plan to make successful applications available to the public, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This competition is subject to Executive Order 12372 and the regulations in 34 CFR part 79. Information about Intergovernmental Review of Federal Programs under Executive Order 12372 is in the application package for this program.

4. Funding Restrictions: We reference regulations outlining funding restrictions in the Applicable Regulations section of this notice. Additionally, no funds received by an institution of higher education under this section shall be used to fund any activities or services provided by institutions that are not eligible as lead applicants in this competition.

5. Recommended Page Limit: The application narrative is where you, the applicant, address the selection criteria that reviewers use to evaluate your application. We recommend that you (1) limit the application narrative to no more than 50 pages and (2) use the following standards:

• A “page” is 8.5″ x 11″, on one side only, with 1” margins at the top, bottom, and both sides.

• Double-space (no more than three lines per vertical inch) all text in the application narrative, including titles, headings, footnotes, quotations, references, and captions, as well as all text in charts, tables, figures, and graphs.

• Use a font that is either 12 point or larger, and no smaller than 10-pitch (characters per inch).

• Use one of the following fonts: Times New Roman, Courier, Courier New, or Arial.

The recommended page limit does not apply to the cover sheet; the budget section, including the narrative budget justification; the assurances and certifications; or the one-page abstract, the resumes, the bibliography, or the letters of support; or the waiver request for the matching requirement. However, the recommended 50-page limit does apply to all of the application narrative.

V. Application Review Information

1. Selection Criteria: The selection criteria for this competition are from 34 CFR 75.210. The points assigned to each criterion are indicated in the parentheses next to the criterion. An application may earn up to a total of 110 points based on the selection criteria. Applications submitted under Absolute Priority 3 may receive 2 additional points under the competitive preference priority, for a total score of up to 112 points. All applications will be evaluated based on the selection criteria as follows:

(a) Significance. (Maximum 25 points)

(1) The Secretary considers the significance of the proposed project.

(2) In determining the significance of the proposed project, the Secretary considers the following factors:

(i) The likelihood that the proposed project will result in system change or improvement. (Up to 10 points)

(ii) The extent to which the proposed project involves the development or demonstration of promising new strategies that build on, or are alternatives to, existing strategies. (Up to 5 points)

(iii) The importance or magnitude of the results or outcomes likely to be attained by the proposed project. (Up to 10 points)

(b) Quality of the Project Design. (Maximum 30 points)

(1) The Secretary considers the quality of the project design.

(2) In determining the quality of the project design, the Secretary considers the following factors:

(i) The extent to which the goals, objectives, and outcomes to be achieved by the proposed project are clearly specified and measurable. (Up to 5 points)

(ii) The extent to which the proposed activities constitute a coherent, sustained program of training in the field. (Up to 5 points)

(iii) The extent to which the proposed project is designed to build capacity and yield results that will extend beyond the period of Federal financial assistance. (Up to 5 points)

(iv) The extent to which the proposed project represents an exceptional approach to the priority or priorities established in the competition. (Up to 5 points)

(v) The extent to which the proposed project will integrate with or build on similar or related efforts in order to improve relevant outcomes (as defined this notice), using nonpublic funds or resources. (Up to 5 points)

(vi) The extent to which the proposed project will integrate with, or build on similar or related efforts, to improve relevant outcomes (as defined in this notice), using existing funding streams from other programs or policies supported by community, State, and Federal resources. (Up to 5 points)

(c) Quality of Project Services. (Maximum 15 points)

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability. (Up to 5 points)

(3) In addition, the Secretary considers the following factors:

(i) The likely impact of the services to be provided by the proposed project on the intended recipients of those services. (Up to 5 points)

(ii) The extent to which the technical assistance services to be provided by the proposed project involve the use of efficient strategies, including the use of technology, as appropriate, and the leveraging of non-project resources. (Up to 5 points)

Note: For the purpose of this competition, technical assistance services could include, for example, technical assistance provided to faculty, staff, and students (at all levels) designed to increase research activities, including to expand institutional capacity to secure new funding, support student research experiences, or facilitate faculty professional development.

(d) Adequacy of Resources. (Maximum 15 points)

(1) The Secretary considers the adequacy of resources for the proposed project.

(2) In determining the adequacy of resources for the proposed project, the Secretary considers the following factors:

(i) The adequacy of support, including facilities, equipment, supplies, and other resources, from the applicant organization or the lead applicant organization. (Up to 5 points)

(ii) The potential for the incorporation of project purposes, activities, or benefits into the ongoing program of the agency or organization at the end of Federal funding. (Up to 5 points)

(iii) The potential for continued support of the project after Federal funding ends, including, as appropriate, the demonstrated commitment of appropriate entities to such support. (Up to 5 points)

(e) Quality of the Management Plan. (Maximum 10 points)

(1) The Secretary considers the quality of the management plan for the proposed project.

(2) In determining the quality of the management plan for the proposed project, the Secretary considers the following factors:

(i) The adequacy of the management plan to achieve the objectives of the proposed project on time and within budget, including clearly defined responsibilities, timelines, and milestones for accomplishing project tasks. (Up to 5 points)

(ii) The adequacy of procedures for ensuring feedback and continuous improvement in the operation of the proposed project. (Up to 5 points)

(f) Quality of the Project Evaluation. (Maximum 15 points)

(1) The Secretary considers the quality of the evaluation to be conducted of the proposed project.

(2) In determining the quality of the evaluation, the Secretary considers the following factors:

(i) The extent to which the methods of evaluation will provide timely guidance for quality assurance. (Up to 5 points)

(ii) The extent to which the methods of evaluation will provide performance feedback and permit periodic assessment of progress toward achieving intended outcomes. (Up to 5 points)

(iii) The extent to which the methods of evaluation include the use of objective performance measures that are clearly related to the intended outcomes of the project and will produce quantitative and qualitative data to the extent possible. (Up to 5 points)

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

For this competition, a panel of external reviewers will read, prepare a written evaluation of, and score all eligible applications using the selection criteria and the competitive preference priority, if applicable, provided in this notice. The individual scores of the reviewers will be added and the sum divided by the number of reviewers to determine the peer review score. The Department may use more than one tier of reviews in evaluating applications. The Department will prepare a rank order of applications for each absolute priority based solely on the evaluation of their quality according to the selection criteria and competitive preference priority points. The rank order of applications for each absolute priority will be used to create three slates.

Within each slate, in the event there are two or more applications with the same final score in the rank order listing, and there are insufficient funds to fully support each of these applications, the Department will apply the following procedure to determine which application or applications will receive an award:

First Tiebreaker: The first tiebreaker will be the highest average score for the selection criterion titled “Adequacy of Resources.” If a tie remains, the second tiebreaker will be utilized.

Second Tiebreaker: The second tiebreaker will be the highest average score for the selection criterion titled “Significance.” If a tie remains, the third tiebreaker will be utilized.

Third Tiebreaker: The third tiebreaker will be the applicant with the highest percentage of Pell Grant students enrolled at the lead applicant institution based on the most recent IPEDS data available.

3. Risk Assessment and Specific Conditions: Consistent with 2 CFR 200.206, before awarding grants under this competition, the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgement about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We also may notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: For purposes of Department reporting under 34 CFR 75.110, the Department will use the following performance measures to evaluate the success of the RDI grant program:

(a) For Absolute Priorities 1 and 3, the following program-level performance measures:

(1) The annual number of doctoral students enrolled at the lead applicant university.

(2) The annual number of doctoral conferrals.

(3) The annual number of doctoral conferrals to underrepresented students.

(4) Annual faculty development expenditures.

(5) The annual research and development expenditures in:

(i) Science and engineering.

(ii) Non-science and engineering.

(b) For Absolute Priority 2, the following program-level performance measures:

(1) The annual research and development expenditures in:

(i) Science and engineering.

(ii) Non-science and engineering.

(2) Annual faculty development expenditures.

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Nasser H. Paydar,
Assistant Secretary for Postsecondary Education.

[FR Doc. 2023-16402 Filed 8-1-23; 8:45 am]

BILLING CODE 4000-01-P